DEPARTMENT OF LABOR

Employment and Training Administration

[TA-W-82,571; TA-W-82,571A]

LexisNexis/Matthew Bender, a Reed Elsevier, INC. Subsidiary Not Including the Customer Service and Fulfillment Departments, Albany, New York; Lexisnexis, Customer Support and Fulfillment Departments, Miamisburg, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on May 8, 2013, applicable to workers and former workers of LexisNexis/Matthew Bender, a Reed Elsevier, Inc. Subsidiary, not including the Customer Service and Fulfillment Departments, Albany, New York. The subject workers are engaged in activities related to the supply of research tools and solutions services.

The subject firm confirmed that LexisNexis, Customer Support and Fulfillment Departments, Miamisburg, Ohio (TA-W-82,571A) is part of the subject worker group; the subject workers are engaged in activities related to the supply of research tools and solutions services; and the subject workers are affected by the acquisition of services from a foreign country. Workers covered by TA-W-82,571A are eligible to apply for Trade Adjustment Assistance under TA-W-81,638 (certification expires on June 1, 2014).

The amended notice applicable to TA-W-82,571 is hereby issued as follows:

“All workers of LexisNexis/Matthew Bender, a Reed Elsevier, Inc. Subsidiary, not including the Customer Service and Fulfillment Departments, Albany, New York (TA-W-82,571) who became totally or partially separated from employment on or after March 18, 2012, and all workers in the group threatened with total or partial separation from employment on date of certification through May 8, 2015, are eligible to apply for adjustment assistance under Chapter 2 of Title II of the Trade Act of 1974, as amended; and all workers of LexisNexis, Customer Support and Fulfillment, Miamisburg, Ohio (TA-W-82,571A) who became totally or partially separated from employment on or after June 2, 2014, and all workers in the group threatened with total or partial separation from employment on date of certification through May 8, 2015, are eligible to apply for adjustment assistance under Chapter 2 of Title II of the Trade Act of 1974.”

Signed in Washington, DC this 23rd day of May, 2014.
Del Min Amy Chen,
Certifying Officer, Office of Trade Adjustment Assistance.

[FR Doc. 2014-13187 Filed 6-5-14; 8:45 am]

BILLING CODE 4510-FN-P